DEPARTMENT OF THE INTERIOR

National Park Service

[NPS-WASO-CONC-0111-6544; 2410-OYC]

Notice of Temporary Concession Contract for Assateague Island National Seashore, MD

AGENCY: National Park Service, Interior.

ACTION: Notice of proposed award of temporary concession contract for Assateague Island National Seashore.

DATES: Effective Date: May 1, 2011.

SUMMARY: Pursuant to 36 CFR 51.24, public notice is hereby given that the National Park Service proposes to award a temporary concession contract for the conduct of certain visitor services within Assateague Island National Seashore, Maryland for a term not to exceed 3 (three) years. The visitor services include the sale of merchandise and limited pre-packaged food and beverage. This action is necessary to avoid interruption of visitor services.

SUPPLEMENTARY INFORMATION: The temporary concession contract is proposed to be awarded to Assateague Island Alliance, a qualified person (as defined in 36 CFR 51.3). The National Park Service has determined that a temporary concession contract is necessary in order to avoid interruption of visitor services and has taken all reasonable and appropriate steps to consider alternatives to avoid an interruption of visitor services. This action is issued pursuant to 36 CFR 51.24(a). This is not a request for proposals.

FOR FURTHER INFORMATION CONTACT: Jo A. Pendry, Chief, Commercial Services Program, National Park Service, 1201 Eye Street, NW., 11th Floor, Washington, DC 20005, Telephone: 202/513-7156.

Dated: March 25, 2011.
Peggy O'Dell,
Deputy Director, Operations.

[FR Doc. 2011-8525 Filed 4-8-11; 8:45 am]

BILLING CODE 4312-53-P